DEPARTMENT OF THE INTERIOR

[RR04900000, 200R0680R1, RR.17549897.2020000.01]

Notice of Contract Execution Between the Central Utah Water Conservancy District (District) and Department of the Interior (Interior) for Prepayment of Costs Allocated to Municipal and Industrial Water from the Bonneville Unit of the Central Utah Project, Utah County, Utah

AGENCY: Office of the Assistant Secretary for Water and Science, Interior.

ACTION: Notice of contract execution.

SUMMARY: On October 1, 2020, Block Notice 7A-2 was issued to the District for 22,000 acre-feet of Municipal and Industrial water from the Utah Lake Drainage Basin Water Delivery System, Bonneville Unit of the Central Utah Project. Subsequently, on October 28, 2020, Interior and the District entered into a contract for the District to prepay the repayment obligation associated with Block Notice 7A-2.

FOR FURTHER INFORMATION CONTACT: Additional information on matters related to this Federal Register notice can be obtained by contacting Mr. Lee Baxter, Senior Program Coordinator, Central Utah Project Completion Act Office, Department of the Interior, 302 East Lakeview Parkway, Provo, Utah 84606; via telephone at (801) 379-1174; or by email at lbaxter@usbr.gov.

SUPPLEMENTARY INFORMATION: Public Law 102-575, Central Utah Project Completion Act, Section 210, as amended through Public Law 104-286, stipulates that “the Secretary shall allow for prepayment of the repayment contract between the United States and the Central Utah Water Conservancy District (District) dated December 28, 1965, and supplemented on November 26, 1985, or any additional or supplemental repayment contract providing for repayment of municipal and industrial water delivery facilities of the Central Utah Project for which repayment is provided pursuant to such contract, under terms and conditions similar to those contained in the supplemental contract that provided for the prepayment of the Jordan Aqueduct dated October 28, 1993. The prepayment may be provided in several installments to reflect substantial completion of the delivery facilities being prepaid and may not be adjusted on the basis of the type of prepayment financing utilized by the District.”

In accordance with Public Law 102-575, the District prepaid the municipal and industrial repayment obligation associated with Block Notice 7A-2 from the Utah Lake Drainage Basin Water Delivery System, a component of the Bonneville Unit of the Central Utah Project. The terms of the prepayment were publicly negotiated between the District and Interior on September 23, 2020.

Reed R. Murray,
Program Director,Central Utah Project Completion Act Office, Department of the Interior.

[FR Doc. 2020-26738 Filed 12-3-20; 8:45 am]

BILLING CODE 4332-90-P